DEPARTMENT OF TRANSPORTATION

Federal Aviation Administration

14 CFR Part 39

[Docket No. FAA-2009-1003; Directorate Identifier 2009-SW-25-AD; Amendment 39-16064; AD 2009-22-11]

RIN 2120-AA64

Airworthiness Directives; Bell Helicopter Textron Canada Model 407 and 427 Helicopters

AGENCY: Federal Aviation Administration (FAA), Department of Transportation (DOT).

ACTION: Final rule; request for comments.

SUMMARY: We are adopting a new airworthiness directive (AD) for Bell Helicopter Textron Canada (Bell) Model 407 and 427 helicopters. This AD results from a mandatory continuing airworthiness information (MCAI) AD issued by the aviation authority of Canada. The MCAI AD states that, during a preflight check, it was observed that the swashplate link assembly bearing had moved in the lever race, making contact with the swashplate support. The MCAI also states that further investigation revealed that the bearing had not been staked correctly during manufacture. That condition, if not detected, could result in failure of a bearing, failure of the swashplate link assembly, and subsequent loss of control of the helicopter.

DATES: This AD becomes effective on November 16, 2009.

We must receive comments on this AD by December 29, 2009.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Bell Helicopter Textron, Inc., P.O. Box 482, Fort Worth, TX 76101, telephone (817) 280-3391, fax (817) 280-6466, or at http://www.bellcustomer.com/files/.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: Sharon Miles, Aviation Safety Engineer, FAA, Rotorcraft Directorate, Regulations and Guidance Group, Fort Worth, Texas 76137, telephone (817) 222-5122, fax (817) 222-5961.

SUPPLEMENTARY INFORMATION:

Discussion

Transport Canada, which is the aviation authority for Canada, has issued AD No. CF-2009-14, dated April 15, 2009 to correct an unsafe condition for Bell Model 407 helicopters, serial number (S/N) 53000 through 53887, 53890 through 53916, 53918, 53920, 53921, 53923 through 53926, and 53928; and Model 427 helicopters, S/N 56001 through 56074, 58001, and 58002, with an anti-drive link assembly, part number (P/N) 406-010-432-101, that has a serial number prefix of “TI” or “TIFS.” Transport Canada states that during a preflight check, it was observed that the swashplate link assembly bearing had moved in the lever race, making contact with the swashplate support. Transport Canada also states that further investigation revealed that the bearing had not been staked correctly during manufacture and that this situation, if not corrected, could lead to loss of control of the helicopter. You may obtain further information by examining the MCAI AD and any related service information in the AD docket.

Related Service Information

Bell has issued Alert Service Bulletin (ASB) No. 407-09-87, dated March 27, 2009, for the Model 407 helicopters and ASB No. 427-09-24, Revision A, dated March 30, 2009, for the Model 427 helicopters. The ASBs specify a one-time inspection of all anti-drive link assemblies, P/N 406-010-432-101 with a serial number prefix of “TI” or “TIFS,” to ensure that the bearing, P/N 406-310-403-101, is correctly and securely staked in the link assembly. The actions described in the MCAI AD are intended to correct the same unsafe condition as that identified in the ASBs.

FAA's Evaluation and Unsafe Condition Determination

These products have been approved by the aviation authority of Canada, and are approved for operation in the United States. Pursuant to our bilateral agreement with Canada, they have notified us of the unsafe condition described in the MCAI AD. We are issuing this AD because we evaluated all information provided by Transport Canada and determined an unsafe condition exists and is likely to exist or develop on other products of the same type design.

Differences Between This AD and the MCAI AD

This AD differs from the MCAI AD as follows:

• This AD requires compliance within 10 hours time-in-service (TIS), the MCAI AD requires compliance within the next 10 flight hours, but no later than 30 days from the effective day of the MCAI AD, which was May 6, 2009; and

• This AD does not apply to Model 427 helicopters with S/N 58001 or 58002 because those serial-numbered helicopters are not eligible for an FAA certificate of airworthiness.

Costs of Compliance

We estimate that this AD will affect about 554 helicopters of U.S. registry. We also estimate that it will take about 1 work-hour per helicopter to inspect and replace, if necessary, the bearing or the anti-drive link assembly. The average labor rate is $80 per work-hour. Required parts will cost about $400 for a bearing or $3,517 for an anti-drive link assembly, per helicopter. Based on these figures, we estimate the cost of this AD on U.S. operators will be $1,992,738 ($3,597 per helicopter), assuming that all anti-drive link assemblies are replaced.

FAA's Determination of the Effective Date

An unsafe condition exists that requires the immediate adoption of this AD. We find that the risk to the flying public justifies waiving notice and comment prior to adoption of this rule because the previously described critical unsafe condition can adversely affect the structural integrity of the helicopter and the inspection must be performed within 10 hours TIS. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-1003; Directorate Identifier 2009-SW-25-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-22-11 Bell Helicopter Textron Canada: Amendment 39-16064. Docket No. FAA-2009-1003; Directorate Identifier 2009-SW-25-AD.

Effective Date

(a) This airworthiness directive (AD) becomes effective on November 16, 2009.

Other Affected ADs

(b) None.

Applicability

(c) This AD applies to the following model and serial-numbered helicopters with an anti-drive (swashplate) link assembly (link assembly), part number (P/N) 406-010-432-101, that has a serial number (S/N) prefix of “TI” or “TIFS”, certificated in any category:

Model | Serial Nos.
407 | 53000 through 53887, 53890 through 53916, 53918, 53920, 53921, 53923 through 53926, and 53928.
427 | 56001 through 56074.

Reason

(d) The mandatory continuing airworthiness information (MCAI) AD states during a preflight check it was observed that the swashplate link assembly bearing had moved in the lever race, making contact with the swashplate support. The MCAI AD also states that further investigation revealed that the bearing had not been staked correctly during manufacture. That condition, if not detected, could result in failure of a bearing, failure of the link assembly, and subsequent loss of control of the helicopter.

Actions and Compliance

(e) Required as indicated, unless accomplished previously.

(1) Within 10 hours time-in-service (TIS), using a 10x or higher magnifying glass, inspect the link assembly and determine if the bearing, P/N 406-310-403-101, is correctly installed and properly staked in the link assembly. Also inspect to ensure that the bearing is not loose.

(2) Before further flight, replace any bearing that is incorrectly installed or improperly staked in the link assembly.

(3) Before further flight, replace the link assembly if the bearing is loose.

Differences Between This AD and the MCAI AD

(f) This AD differs from the MCAI AD as follows:

(1) This AD requires compliance within 10 hours TIS, the MCAI AD requires compliance within the next 10 flight hours, but no later than 30 days from the effective day of the MCAI AD, which was May 6, 2009; and

(2) This AD does not apply to Model 427 helicopters, S/N 58001 or 58002, because those serial-numbered helicopters are not eligible for an FAA certificate of airworthiness.

Other Information

(g) Alternative Methods of Compliance (AMOCs): The Manager, Safety Management Group, FAA, ATTN: Sharon Miles, Aviation Safety Engineer, Rotorcraft Directorate, Fort Worth, Texas 76137, telephone (817) 222-5122, fax (817) 222-5961, has the authority to approve AMOCs for this AD, if requested using the procedures found in 14 CFR 39.19.

Related Information

(h) The following documents contain related information:

(1) Transport Canada AD No. CF-2009-14, dated April 15, 2009;

(2) Bell Helicopter Alert Service Bulletin No. 407-09-87, dated March 27, 2009; and

(3) Bell Helicopter Alert Service Bulletin No. 427-09-24, Revision A, dated March 30, 2009.

Joint Aircraft System/Component (JASC) Code

(i) JASC Code 6230: Main rotor/swashplate.

Issued in Fort Worth, Texas on October 20, 2009.
Mark R. Schilling,
Acting Manager, Rotorcraft Directorate, Aircraft Certification Service.

[FR Doc. E9-26120 Filed 10-29-09; 8:45 am]

BILLING CODE 4910-13-P